POSTAL SERVICE

International Product Change—Removal of Priority Mail International Regional Rate Boxes—Non-Published Rates and Priority Mail International Regional Rates Boxes Contracts

AGENCY: Postal Service™.

ACTION: Notice.

SUMMARY: The Postal Service gives notice of filing a request with the Postal Regulatory Commission to remove Priority Mail International Regional Rate Boxes—Non-Published Rates and Priority Mail International Regional Rate Boxes (PMI RRB) Contracts from the Competitive Product List in the Mail Classification Schedule.

DATES: Applicable date: November 10, 2022.

FOR FURTHER INFORMATION CONTACT: Christopher C. Meyerson, 202-268-7820.

SUPPLEMENTARY INFORMATION: The United States Postal Service® hereby gives notice that, pursuant to 39 U.S.C. 3642 and 39 CFR 3040.130 et seq., on November 10, 2022, it filed with the Postal Regulatory Commission a Request of the United States Postal Service to Remove Priority Mail International Regional Rate Boxes—Non-Published Rates and Priority Mail International Regional Rate Boxes (PMI RRB) Contracts from the Competitive Product List in the Mail Classification Schedule. Documents are available at www.prc.gov, Docket No. MC2023-45.

Sarah Sullivan,
Attorney, Ethics and Legal Compliance.

[FR Doc. 2022-25293 Filed 11-18-22; 8:45 am]

BILLING CODE 7710-12-P